DEPARTMENT OF ENERGY

Federal Energy Regulatory Commission

[Docket No. CP02-374-000]

Hackberry LNG Terminal, L.L.C.; Notice of Technical Conference

April 9, 2003.

On April 23, 2003, staff of the Office of Energy Projects (OEP) will convene a cryogenic design and technical conference concerning Hackberry LNG Terminal L.L.C.'s proposed liquefied natural gas (LNG) import terminal and storage facility in Cameron Parish, Louisiana.

The conference will be held on Wednesday, April 23, 2003 at 8:30 AM at the Holiday Inn Express in Sulphur, Louisiana. In view of the nature of security issues to be explored, the conference will not be open to the public. Attendance at the conference will be limited to existing parties to the proceeding and to representatives of interested local, State, and Federal agencies. Any person planning to attend the April 23rd conference must notify the Office of General Counsel (Joel Arneson) at (202) 502-8562 by noon on April 21, 2003. Participants will be required to sign a non-disclosure statement prior to admission.

In addition, the staff of OEP will conduct a workshop on issues related to LNG storage tank and retention system designs at 1 PM on April 23rd. This session will be open to the public and will also be held at the Holiday Inn Express.

Information concerning any changes to the above may be obtained from the Commission's Office of External Affairs at (202) 502-8004 or toll free at 1-(866) 208-FERC (208-3372).

Magalie R. Salas,
Secretary.

[FR Doc. 03-9234 Filed 4-15-03; 8:45 am]

BILLING CODE 6717-01-P